DEPARTMENT OF ENERGY

Nuclear Energy Advisory Committee

AGENCY: Office of Nuclear Energy, Department of Energy.

ACTION: Notice of open meeting.

SUMMARY: This notice announces a hybrid virtual and in-person open meeting of the Nuclear Energy Advisory Committee. The Federal Advisory Committee Act requires that public notice of this meeting be announced in the Federal Register.

DATES: Thursday, February 16, 2023; 9:00 a.m.-4:30 p.m.

ADDRESSES: This hybrid meeting will be open virtually for members of the public via Zoom only. Committee members, Department of Energy (DOE) representatives, agency liaisons, and support staff will participate in-person, strictly following COVID-19 precautionary measures, at: James V. Forrestal Building, U.S. Department of Energy, 1000 Independence Ave. SW, Washington, DC 20585.

FOR FURTHER INFORMATION CONTACT: Luke Branscum, Designated Federal Officer, U.S. Department of Energy, 1000 Independence Ave. SW, Washington, DC 20585; (202) 586-4290; email: Luke.Branscum@nuclear.energy.gov.

SUPPLEMENTARY INFORMATION:

Purpose of the Committee: The Nuclear Energy Advisory Committee provides advice and recommendations to the Assistant Secretary for Nuclear Energy on national policy and scientific aspects of nuclear issues of concern to DOE; provides periodic reviews of the various program elements within DOE's nuclear programs and recommendations based thereon; ascertains the needs, views, and priorities of DOE's nuclear programs; advises on long-range plans, priorities, and strategies to address more effectively the technical, financial, and policy aspects of such programs; and advises on appropriate levels of resources to develop those plans, priorities, and strategies. The committee is composed of 11 individuals of diverse backgrounds selected for their technical expertise and experience, established records of distinguished professional service, and their knowledge of issues that pertain to nuclear energy.

Purpose of Meeting: The Nuclear Energy Advisory Committee will hold a meeting on February 16, 2023, to discuss the priorities of the Office of Nuclear Energy and the Department of Energy, to refine priorities for the Committee, and to provide an update on subcommittee progress to date.

Tentative Agenda

• Welcome and Opening Remarks

• Office of Nuclear Energy Priorities

○ Nuclear Energy Infrastructure

• Subcommittee Updates

○ Infrastructure

○ Workforce of the Future

○ International Engagements

○ Consent-based Siting

• Public Comment Period and Closing Remarks

Public Participation: Members of the public who wish to attend can do so virtually via Zoom. All attendees are requested to register by 4:00 p.m. on Friday, February 10th for the meeting at: https://forms.office.com/g/wTUc0zcRzd or by emailing Luke.Branscum@nuclear.energy.gov. Written statements may be filed with the Committee either before or after the meeting. Individuals who wish to make oral statements pertaining to agenda items should contact Luke Branscum at the address or telephone listed above. Requests for an oral statement must be received at least five days prior to the meeting. Reasonable provision will be made to include requested oral statements in the agenda. The Designated Federal Officer is empowered to conduct the meeting in a fashion that will facilitate the orderly conduct of business. Individuals wishing to make public comments will be provided a maximum of five minutes to present their comments. Anyone attending the in-person meeting will be required to present government-issued identification. Please provide your name, organization, citizenship, and contact information to Luke Branscum at the address or phone number listed above.

Minutes: Minutes will be available by contacting Luke Branscum at the address or phone number listed above. Minutes will also be available at the following website: https://www.energy.gov/ne/nuclear-energy-advisory-committee.

Signed in Washington, DC on January 5, 2023.
LaTanya Butler,
Deputy Committee Management Officer.

[FR Doc. 2023-00344 Filed 1-10-23; 8:45 am]

BILLING CODE 6450-01-P